FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012164-002.

Title: KL/WHL/WHS Space Charter and Sailing Agreement.

Parties: Kawasaki Kisen Kaisha, Ltd.; Wan Hai Lines, Ltd.; and Wan Hai Lines (Singapore) PTE Ltd.

Filing Party: Eric C. Jeffrey, Legal Counsel, Nixon Peabody LLP; 401 9th Street NW., Suite 900; Washington, DC 20004.

Synopsis: The amendment adds Wan Hai Lines, Ltd. as a party to the agreement and revises the agreement's name accordingly.

Agreement No.: 012281.

Title: NMCC/K-Line Space Charter Agreement.

Parties: Nissan Motor Car Carrier Co., Ltd. and Kawasaki Kisen Kaisha, Ltd.

Filing Party: John P. Meade, Esq.; General Counsel; K-Line America, Inc.; 6199 Bethlehem Road; Preston, MD 21655.

Synopsis: The agreement authorizes NMCC to charter space on K-Line vessels in the trade between the United States, on the one hand, and counties bordering the Mediterranean Sea, on the other hand.

Agreement No.: 012282.

Title: Kyowa Shipping Co. Ltd. and Nippon Yusen Kaisha Space Charter Agreement.

Parties: Kyowa Shipping Co. Ltd. and Nippon Yusen Kaisha.

Filing Party: Robert Shababb, Corporate Counsel, NYK Line (North America) Inc.; 300 Lighting Way, 5th Floor; Secaucus, NJ 07094.

Synopsis: The agreement authorizes NYK to charter space on Kyowa's vessels in the trade between Japan on the one hand, and Guam and Saipan, on the other hand.

Agreement No.: 012283.

Title: NYK/Hanjin-ANS Space Charter Agreement.

Parties: Nippon Yusen Kaisha and Hanjin Shipping Co., Ltd.

Filing Party: Robert Shababb, Corporate Counsel, NYK Line (North America) Inc.; 300 Lighting Way, 5th Floor; Secaucus, NJ 07094.

Synopsis: The agreement authorizes NYK to charter slots to Hanjin on the ANS service in the trade between the U.S. East Coast and the East Coast of South America.

Dated: June 6, 2014.
By Order of the Federal Maritime Commission.
Rachel E. Dickon,
Assistant Secretary.

[FR Doc. 2014-13582 Filed 6-10-14; 8:45 am]

BILLING CODE 6730-01-P